COMMITTEE FOR PURCHASE FROM PEOPLE WHO ARE BLIND OR SEVERELY DISABLED

Procurement List; Additions

AGENCY: Committee for Purchase From People Who Are Blind or Severely Disabled.

ACTION: Additions to Procurement List.

SUMMARY: This action adds to the Procurement List products and services to be furnished by nonprofit agencies employing persons who are blind or have other severe disabilities.

EFFECTIVE DATE: October 9, 2005.

ADDRESSES: Committee for Purchase From People Who Are Blind or Severely Disabled, Jefferson Plaza 2, Suite 10800, 1421 Jefferson Davis Highway, Arlington Virginia, 22202-3259.

FOR FURTHER INFORMATION CONTACT: Sheryl D. Kennerly, Telephone: (703) 603-7740, Fax: (703) 603-0655, or e-mail SKennerly@jwod.gov.

SUPPLEMENTARY INFORMATION: On July 8, and July 15, 2005, the Committee for Purchase From People Who Are Blind or Severely Disabled published notice (70 FR 39484, and 40978) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Bag, Urine Collection

NSN: 6530-00-NSH-0028—Large, Enhanced Bag, No options

NSN: 6530-00-NSH-0029—Medium, Enhanced Bag, No options

NSN: 6530-00-NSH-0030—Large, w/moleskin backing option

NSN: 6530-00-NSH-0031—Large, w/inlet extension option

NSN: 6530-00-NSH-0032—Large, w/drain extension

NSN: 6530-00-NSH-0033—Large, w/moleskin & inlet extension

NSN: 6530-00-NSH-0034—Large, w/moleskin & drain extension

NSN: 6530-00-NSH-0035—Large, w/inlet & drain extension

NSN: 6530-00-NSH-0036—Large, w/inlet, drain extension & moleskin

NSN: 6530-00-NSH-0037—Medium, w/moleskin option

NSN: 6530-00-NSH-0038—Medium, w/inlet extension

NSN: 6530-00-NSH-0039—Medium, w/drain extension

NSN: 6530-00-NSH-0040—Medium, w/moleskin & inlet extension

NSN: 6530-00-NSH-0041—Medium, w/moleskin & drain extension

NSN: 6530-00-NSH-0042—Medium, w/inlet & drain extension

NSN: 6530-00-NSH-0043—Medium, w/inlet, drain extension & moleskin

NPA: Work, Incorporated, North Quincy, Massachusetts Contracting Activity: Veterans Affairs National Acquisition Center, Hines, Illinois

Services

Service Type/Location: Custodial Services, Alderson Plant Materials Center, 24910 Old Prison Farm Road, Alderson, West Virginia.

NPA: Gateway Industries, Inc., Ronceverte, West Virginia.

Contracting Activity: U.S. Department of Agriculture, Natural Resources Conversation Service, Morgantown, West Virginia.

Service Type/Location: Document Destruction, NARA, Denver Federal Record Center, Rocky Mountain Region, Building 48, 6th and Kipling, Denver, Colorado.

NPA: Bayaud Industries, Inc., Denver, Colorado.

Contracting Activity: National Archives & Records Administration, College Park, Maryland.

Service Type/Location: Document Destruction, NARA, Laguna Niguel Federal Record Center, 24000 Avila Road, Laguna Niguel, California.

NPA: Landmark Services, Inc., Santa Ana, California.

Contracting Activity: National Archives & Records Administration, College Park, Maryland.

This action does not affect current contracts awarded prior to the effective date of this addition or options that may be exercised under those contracts.

G. John Heyer,
General Counsel.

[FR Doc. E5-4900 Filed 9-8-05; 8:45 am]

BILLING CODE 6353-01-P